DEPARTMENT OF ENERGY

Federal Energy Regulatory Commission

Combined Notice of Filings #1

Take notice that the Commission received the following electric corporate filings:

Docket Numbers: EC15-47-000.

Applicants: Entergy Gulf States Louisiana, L.L.C., Entergy Louisiana, LLC.

Description: Application of Entergy Gulf States Louisiana, L.L.C., and Entergy Louisiana, LLC, for FPA 203 Authorization.

Filed Date: 12/10/14.

Accession Number: 20141210-5199.

Comments Due: 5 p.m. ET 12/31/14.

Docket Numbers: EC15-48-000.

Applicants: Entergy Louisiana, LLC, Entergy New Orleans, Inc.

Description: Application of Entergy Louisiana, LLC and Entergy New Orleans, Inc., for FPA 203 Authorization.

Filed Date: 12/10/14.

Accession Number: 20141210-5201.

Comments Due: 5 p.m. ET 12/31/14.

Take notice that the Commission received the following electric rate filings:

Docket Numbers: ER14-2558-000.

Applicants: Puget Sound Energy, Inc.

Description: eTariff filing per 35.19a(b): Bellingham Cold Storage-Orchard NITSA No 709 Refund Report to be effective N/A.

Filed Date: 12/11/14.

Accession Number: 20141211-5149.

Comments Due: 5 p.m. ET 1/2/15.

Docket Numbers: ER14-2559-000.

Applicants: Puget Sound Energy, Inc.

Description: eTariff filing per 35.19a(b): Bellingham Cold Storage-Roeder NITSA No 706 Refund Report to be effective N/A.

Filed Date: 12/11/14.

Accession Number: 20141211-5148.

Comments Due: 5 p.m. ET 1/2/15.

Docket Numbers: ER14-2560-000.

Applicants: Puget Sound Energy, Inc.

Description: eTariff filing per 35.19a(b): Tesoro NITSA No 703 Refund Report to be effective N/A.

Filed Date: 12/11/14.

Accession Number: 20141211-5142.

Comments Due: 5 p.m. ET 1/2/15.

Docket Numbers: ER14-2850-002.

Applicants: Southwest Power Pool, Inc.

Description: Compliance filing per 35: Integrated System Open Access Transmission Tariff Revisions—Compliance Filing to be effective 10/1/2015.

Filed Date: 12/10/14.

Accession Number: 20141210-5157.

Comments Due: 5 p.m. ET 12/31/14.

Docket Numbers: ER14-2851-002.

Applicants: Southwest Power Pool, Inc.

Description: Compliance filing per 35: Integrated System Membership Agreement Amendments—Compliance Filing to be effective 11/10/2014.

Filed Date: 12/10/14.

Accession Number: 20141210-5155.

Comments Due: 5 p.m. ET 12/31/14.

Docket Numbers: ER15-522-001.

Applicants: Arizona Public Service Company.

Description: Compliance filing per 35: Errata to MBR Tariff Filing to be effective February 2, 2015 under ER15-522 to be effective 2/2/2015.

Filed Date: 12/11/14.

Accession Number: 20141211-5166.

Comments Due: 5 p.m. ET 1/2/15.

Docket Numbers: ER15-600-001.

Applicants: ISO New England Inc., New England Power Pool Participants Committee.

Description: Tariff Amendment per 35.17(b): Amendment to Information Policy Changes to be effective 2/9/2015 under ER15-600 Filing Type: 130.

Filed Date: 12/11/14.

Accession Number: 20141211-5134.

Comments Due: 5 p.m. ET 1/2/15.

Docket Numbers: ER15-607-000.

Applicants: Duke Energy Stuart, LLC.

Description: § 205(d) rate filing per 35.13(a)(2)(iii): Amendment to Reactive Rate Schedule to be effective 12/1/2014.

Filed Date: 12/10/14.

Accession Number: 20141210-5154.

Comments Due: 5 p.m. ET 12/31/14.

Docket Numbers: ER15-608-000.

Applicants: Kansas City Power & Light Company.

Description: Notice of Cancellation of Interchange Agreement of Kansas City Power & Light Company.

Filed Date: 12/11/14.

Accession Number: 20141211-5033.

Comments Due: 5 p.m. ET 1/2/15.

Docket Numbers: ER15-610-000.

Applicants: Kansas City Power & Light Company.

Description: Notice of Cancellation of Interchange Agreement of Kansas City Power & Light Company.

Filed Date: 12/11/14.

Accession Number: 20141211-5044.

Comments Due: 5 p.m. ET 1/2/15.

Docket Numbers: ER15-611-000.

Applicants: Midcontinent Independent System Operator, Inc.

Description: § 205(d) rate filing per 35.13(a)(2)(iii): 2014-12-11_SA 1926 METC-Consumers 5th Rev. D-TIA to be effective 1/1/2015.

Filed Date: 12/11/14.

Accession Number: 20141211-5121.

Comments Due: 5 p.m. ET 1/2/15.

Docket Numbers: ER15-612-000.

Applicants: Moore Energy, LLC.

Description: Initial rate filing per 35.12 Moore Energy, LLC MBR Authority Application to be effective 2/10/2015.

Filed Date: 12/11/14.

Accession Number: 20141211-5123.

Comments Due: 5 p.m. ET 1/2/15.

Docket Numbers: ER15-613-000.

Applicants: Midcontinent Independent System Operator, Inc., Ameren Illinois Company.

Description: § 205(d) rate filing per 35.13(a)(2)(iii): 2014-12-11_SA 2722 Ameren-Dynegy Construction Agreement Baldwin Upgrade to be effective 12/12/2014.

Filed Date: 12/11/14.

Accession Number: 20141211-5127.

Comments Due: 5 p.m. ET 1/2/15.

Docket Numbers: ER15-614-000.

Applicants: Midcontinent Independent System Operator, Inc.

Description: § 205(d) rate filing per 35.13(a)(2)(iii): 2014-12-11_SA 2717 NSP-GRE Crooked Lake T-T to be effective 12/12/2014.

Filed Date: 12/11/14.

Accession Number: 20141211-5128.

Comments Due: 5 p.m. ET 1/2/15.

Docket Numbers: ER15-615-000.

Applicants: PJM Interconnection, L.L.C.

Description: § 205(d) rate filing per 35.13(a)(2)(iii): Service Agreement No. 4052; Queue No. W3-158 to be effective 11/19/2014.

Filed Date: 12/11/14.

Accession Number: 20141211-5162.

Comments Due: 5 p.m. ET 1/2/15.

Docket Numbers: ER15-616-000.

Applicants: PJM Interconnection, L.L.C.

Description: § 205(d) rate filing per 35.13(a)(2)(iii): Service Agreement No. 4054; Queue No. Z2-030 to be effective 11/25/2014.

Filed Date: 12/11/14.

Accession Number: 20141211-5170.

Comments Due: 5 p.m. ET 1/2/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2014.
Nathaniel J. Davis, Sr.,
Deputy Secretary.

[FR Doc. 2014-29527 Filed 12-16-14; 8:45 am]

BILLING CODE 6717-01-P